DEPARTMENT OF HEALTH AND HUMAN SERVICES

Centers for Disease Control and Prevention

[Program Announcement 01167]

Quality Assurance of HIV and HIV/AIDS-Related Testing; Notice of Availability of Funds

A. Purpose

The Centers for Disease Control and Prevention (CDC) announces the availability of fiscal year (FY) 2001 funds for a cooperative agreement program to improve the quality of HIV testing services in Zimbabwe. This program addresses the “Healthy People 2010” focus area of HIV and Public Health Infrastructure.

The purpose of this cooperative agreement is to support activities to strengthen the capability of laboratories performing HIV and HIV/AIDS-related testing in support of HIV prevention and care programs.

B. Eligible Applicant

Assistance will be provided only to the Zimbabwe National Quality Assurance Program (ZINQAP). No other applications are solicited. ZINQAP is a non-profit organization supported solely by the government of Zimbabwe. No fees are provided ZINQAP for their quality assurance activities. ZINQAP is uniquely qualified to be the recipient organization for the following reasons:

1. ZINQAP has recently been granted the sole governmental authority by Zimbabwe's Health Professions Authority to certify laboratories. As such, laboratories certified by ZINQAP will be required to implement and maintain quality assurance activities that will enable them to adhere to Zimbabwe's national standards.

2. ZINQAP is the only laboratory quality assurance body in Zimbabwe and has been in existence since 1995 with the mission of assisting laboratories to attain and maintain a high standard of performance.

3. ZINQAP currently provides a limited proficiency testing program for approximately 90 laboratories within the country, and as such, has established relationships with district provincial, and regional laboratories within the country. Having a program already in place will require minimal time to expand their capabilities. In contrast, another entity will require additional time to setup operations and must build rapport amongst the country's laboratories as the leader in providing quality assurance programs. ZINQAP has established relationships with U.S. based scientists, with international quality assurance experts, and with local governmental public health officials.

4. ZINQAP routinely interfaces with appropriate officials on issues affecting the quality of Zimbabwe's laboratory test results.

Note: Title 2 of the United States Code, chapter 26, section 1611 states that an organization described in section 501(c)(4) of the Internal Revenue Code of 1986 that engages in lobbying activities is not eligible to receive Federal funds constituting an award, grant, cooperative agreement, contract, loan or any other form.

C. Availability of Funds

Approximately $200,000 in U.S. dollars is available for FY 2001 to fund this award. It is expected that the award will begin on or about September 30, 2001, and will be made for a 12-month budget period within a project period of up to three years.

Continuation awards within an approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

D. Where To Obtain Additional Information

To obtain additional business management information, contact: Mattie Jackson, Grants Management Specialist, Grants Management Branch, Procurement and Grants Office, 2920 Brandywine Road, Room 3000, Atlanta, GA 30341-4146, Telephone: (770) 488-2696, E-mail: mij3@cdc.gov.

To obtain additional programmatic information, contact: Stacy M. Howard, Health Scientist, Division of Laboratory Systems, Public Health Practice Program Office, 4770 Buford Hwy., MS A-16, Atlanta, GA 30341, Telephone: (770) 488-8065, Email: sam5@cdc.gov., or Michael St. Louis, M.D., Director, Zimbabwe-CDC AIDS Project 38 Samora Machel Avenue, Harare ZIMBABWE, Office: 263-11-808734, Mobile: 263-11-613193.

Dated: June 19, 2001.
John L. Williams,
Director, Procurement and Grants Office Centers for Disease Control and Prevention (CDC).

[FR Doc. 01-15820 Filed 6-22-01; 8:45 am]

BILLING CODE 4163-18-P